FEDERAL COMMUNICATIONS COMMISSION

Sunshine Act Meeting Open Commission Meeting Friday, March 16, 2001

March 9, 2001.

The Federal Communications Commission will hold an Open Meeting on the subjects listed below on Friday, March 16, 2001, which is scheduled to commence at 9:30 a.m. in Room TW-C305, at 445 12th Street, SW., Washington, DC.

Item No. | Bureau | Subject
1 | Office of Engineering and Technology, Wireless Telecommunications, and Mass Media | Title: Reallocation and Service Rules for the 698-746 MHz Spectrum Band (Television Channels 52-59). Summary: The Commission will consider a Notice of Proposed Rule Making concerning the reallocation of the 698-746 MHz spectrum band and the licensing, technical, and service rules that should apply to the band.
2 | Office of Engineering and Technology | Title: Revisions to Broadcast Auxiliary Service Rules in Part 74 and Conforming Technical Rules for Broadcast Auxiliary Service, Cable Television Relay Service and Fixed Services in Parts 74, 78 and 101 of the Commission's Rules; Telecommunications Industry Association, Petition for Rule Making Regarding Digital Modulation for the Television Broadcast Auxiliary Service (RM-9418); and Alliance of Motion Picture and Television Producers, Petition for Rule Making Regarding Low-Power Video Assist Devices in Portions of the UHF and VHF Television Bands (RM-9856). Summary: The Commission will consider a Notice of Proposed Rule Making concerning the implementation of digital technology in the Broadcast Auxiliary Services, the conformance of various technical rules for the Broadcast Auxiliary Services, the Cable Television Relay Service, and the Fixed Microwave Service, and the use of Wireless Assist Video Devices on unused TV channels.
3 | International | Title: 2000 Biennial Regulatory Review—Police and Rules Concerning the International, Interexchange Marketplace (IB Docket No. 00-202). Summary: The Commission will consider a Report and Order concerning the tariffing of international services and certain filing requirements for contracts involving international services.

Additional information concerning this meeting may be obtained from Maureen Peratino or David Fiske, Office of Media Relations, telephone number (202) 418-0500; TTY (202) 418-2555.

Copies of materials adopted at this meeting can be purchased from the FCC's duplicating contractor, International Transcription Services, Inc. (ITS, Inc.) at (202) 857-3800; fax (202) 857-3805 and 857-3184; or TTY (202) 293-8810. These copies are available in paper format and alternative media, including large print/type; digital disk; and audio tape. ITS may be reached by e-mail: its_inc@ix.netcom.com. Their Internet address is http://www.itsdocs.com/.

This meeting can be viewed over George mason University's Capitol Connection. The Capitol Connection also will carry the meeting live via the Internet. For information on these services call (703) 993-3100. The audio portion of the meeting will be broadcast live on the Internet via the FCC's Internet audio broadcast page at <http://www.fcc.gov/realaudio/>. The meeting can also be heard via telephone, for a fee, from National Narrowcast Network, telephone (202) 966-2211 or fax (202) 966-1770. Audio and video tapes of this meeting can be purchased from Infocus, 341 Victory Drive, Herndon, VA 20170, telephone (703) 834-0100; fax number (703) 834-0111.

Federal Communications Commission
Magalie Roman Salas,
Secretary.

[FR Doc. 01-6548 Filed 3-13-01; 8:45 am]

BILLING CODE 6712-01-M